NUCLEAR REGULATORY COMMISSION

[NRC-2017-0016]

Guidance for Developing Principal Design Criteria for Non-Light Water Reactors

AGENCY: Nuclear Regulatory Commission.

ACTION: Draft regulatory guide; extension of comment period.

SUMMARY: The U.S. Nuclear Regulatory Commission (NRC) is providing additional information for a notice published in the Federal Register on February 3, 2017, issuing draft regulatory guide (DG), DG-1330, “Guidance for Developing Principal Design Criteria for Non-Light Water Reactors,” for a 60-day public comment period. This action is necessary to inform the public that a paragraph was inadvertently omitted from the “NRC Rationale for Adaptions to GDC” section of General Design Criterion (GDC) 26, “Reactivity Control Systems,” in Appendices A, B, and C of DG-1330, and provides the NRC's Agencywide Documents Access and Management System (ADAMS) accession numbers for the DG and the regulatory analysis for the DG. The NRC is also extending the public comment period for an additional 15 days to allow stakeholders time to review the change and provide comments.

DATES: The due date for comments requested in the FR notice published on February 3, 2017 (82 FR 9246), is extended. Comments should be submitted by April 20, 2017. Comments received after this date will be considered if it is practical to do so, but the NRC is able to ensure consideration only for comments received on or before this date. Although a time limit is given, comments and suggestions in connection with items for inclusion in guides currently being developed or improvements in all published guides are encouraged at any time.

ADDRESSES: You may obtain information and comment submissions related to this document, which the NRC possesses and are publicly available, by searching on http://www.regulations.gov under Docket ID NRC-2017-0016 or draft regulatory guide DG-1330. You may submit comments by any of the following methods:

• Federal rulemaking Web site: Go to http://www.regulations.gov and search for Docket ID NRC-2017-0016 or draft regulatory guide DG-1330. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The DG is available in ADAMS under Accession No. ML16301A307. The regulatory analysis for this DG is available in ADAMS under Accession No ML16330A179.

• NRC's PDR: You may examine and purchase copies of public documents at the NRC's PDR, Room O1-F21, One White Flint North, 11555 Rockville Pike, Rockville, Maryland 20852.

FOR FURTHER INFORMATION CONTACT: Jan Mazza, Office of New Reactors, telephone: 301-415-0498, email: Jan.Mazza@nrc.gov; or Mark Orr, Office of Nuclear Regulatory Research, telephone: 301-415-6003, email: Mark.Orr@nrc.gov. Both are staff members of the U.S. Nuclear Regulatory Commission, Washington, DC 20555-0001.

SUPPLEMENTARY INFORMATION: In a notice published in the Federal Register on February 3, 2017 (82 FR 9246), the NRC issued DG-1330, “Guidance for Developing Principal Design Criteria for Non-Light Water Reactors,” for a 60-day public comment period. The ADAMS accession numbers for the DG and the regulatory analysis for the DG were inadvertently omitted from the notice. In addition, a paragraph in the NRC Rationale section for GDC 26 in Appendices A, B, and C for the DG was also omitted. The DG has been corrected and is available at ADAMS accession number ML16301A307. The regulatory analysis for DG-1330 is available at ADAMS accession number 16330A179. The comment period has been extended until April 20, 2017, to give stakeholders time to review the change and provide comments.

Dated at Rockville, Maryland, this 31st day of March 2017.
For the Nuclear Regulatory Commission.
Thomas Boyce,
Chief, Regulatory Guidance and Generic Issues Branch, Division of Engineering, Office of Nuclear Regulatory Research.

[FR Doc. 2017-06726 Filed 4-4-17; 8:45 am]

BILLING CODE 7590-01-P